DEPARTMENT OF THE INTERIOR

National Park Service

National Register of Historic Places; Notification of Pending Nominations and Related Actions

Nominations for the following properties being considered for listing or related actions in the National Register were received by the National Park Service before March 18, 2006. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by April 19, 2006.

John W. Roberts,
Acting Chief, National Register/National Historic Landmarks Program.

CALIFORNIA

Sonoma County

Temelec, 220 and 221 Temelec Circle, Sonoma, 06000312

COLORADO

Denver County

Iliff Hall, 2201 S. University Blvd., Denver, 06000314

DELAWARE

New Castle County

Bellvue Range Rear Light Station (Light Stations of the United States MPS), Christina River N side, 0.3 mi. W of Delaware R, 50 ft. S of Cherry Island, Wilmington, 06000313

FLORIDA

St. Johns County

Record Building, 154 Cordova St., St. Augustine, 06000315

IOWA

Woodbury County

Municipal Auditorium, 500 Gordon Dr., Sioux City, 06000316

LOUISIANA

Orleans Parish

Hearn, Lafcadio, House, 1565-67 Cleveland Ave., New Orleans, 06000324

St. Bernard Parish

Kenilworth Plantation House (Louisiana's French Creole Architecture MPS), 2931 Bayou Rd., St. Bernard, 06000317

St. Tammany Parish

Camp Salmen House (Louisiana's French Creole Architecture MPS), 35122 Camp Salmen Rd., Slidell, 06000323

MARYLAND

Baltimore County

Jackson, Lillie Carroll, House, 1320 Eutaw Place, Baltimore (Independence City), 06000319

MISSOURI

St. Francois County

Presbyterian Orphanage of Missouri, 412 W. Liberty St., Farmington, 06000322

OHIO

Stark County

St. Paul's Reformed Church, 9669 Erie Ave., SW., Navarre, 06000318

VIRGINIA

Rockingham County

Breneman—Turner Mill, 5036 Turners Mill Ln., Harrisonburg, 06000325

WISCONSIN

Rock County

Bostick Avenue Historic District, 404-436 Bostwick Ave. and 1118 and 1128 Grace St., Janesville, 06000321

In the interest of preservation the comment period for the following resource has been shortened to 3 days:

VIRGINIA

Albemarle County

Holt, Charles B., House, 1010 Preston Ave., Charlottesville, 06000320

A request for removal has been made for the following resources:

IOWA

Washington County

Washington County Hospital, S. 4th Ave. And Clara Barton, Washington, 77000565

SOUTH DAKOTA

Davison County

Holy Family Church, School and Rectory, Kimball and Davison Sts., E. 2nd and E. 3rd Aves., Mitchell, 76001729

[FR Doc. E6-4849 Filed 4-3-06; 8:45 am]

BILLING CODE 4312-51-P